DEPARTMENT OF EDUCATION

List of Correspondence From January 1, 2013, Through March 31, 2013

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from January 1, 2013, through March 31, 2013. Under section 607(f) of the IDEA, the Secretary is required to publish this list quarterly in the Federal Register. The list includes those letters that contain interpretations of the requirements of the IDEA and its implementing regulations, and it may also include letters and other documents that the Department believes will assist the public in understanding the requirements of the law. The list identifies the date and topic of each letter, and it provides summary information, as appropriate. To protect the privacy interests of the individual or individuals involved, personally identifiable information has been redacted, as appropriate.

Part B—Assistance for Education of All Children With Disabilities

Section 612—State Eligibility

Topic Addressed: Children in Private Schools

○ Letter dated February 4, 2013, to New Jersey Catholic Conference Education Director George Corwell, regarding children with disabilities from other countries who are enrolled in private schools by their parents.

Section 613—Local Educational Agency Eligibility

Topic Addressed: Use of Federal Funds

○ Letter dated January 30, 2013, to Minnesota Department of Education Funding and Data Manager Carol Hokenson, regarding coordinated early intervening services and local educational agency (LEA) maintenance of effort requirements in Part B of the IDEA.

○ Letter dated March 7, 2013, to Wisconsin Department of Public Instruction Assistant Director of Special Education Troy Couillard, regarding the circumstances under which an LEA may use Part B funds for services for nondisabled children.

Section 615—Procedural Safeguards

Topic Addressed: Surrogate Parents

○ Letter dated March 27, 2013, to North Carolina attorney K. Dean Shatley, regarding court-appointed surrogate parents.

Topic Addressed: Due Process Complaint

○ Letter dated March 27, 2013, to New York attorney William J. Casey, regarding the purpose of resolution sessions.

Other Letters That Do Not Interpret IDEA but May Be Of Interest to Readers

○ Letter dated March 27, 2013, to District of Columbia Office of the State Superintendent of Education Assistant Superintendent Amy Maisterra, regarding the requirements in Part B of the IDEA that apply to children with disabilities educated at the Laurent Clerc National Deaf Education Center, as specified in the Education of the Deaf Act of 1986, as amended.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 2, 2014.
Michael K. Yudin,
Acting Assistant Secretary for Special Education and Rehabilitative Services.

[FR Doc. 2014-00056 Filed 1-7-14; 8:45 am]

BILLING CODE 4000-01-P